DEPARTMENT OF AGRICULTURE

Forest Service

Oregon Coast Provincial Advisory Committee Meeting

AGENCY: Forest Service, USDA.

ACTION: Notice of meeting.

SUMMARY: The Oregon Coast Provincial Advisory Committee (PAC) will meet at Spirit Mountain, in the Banquet Room, Grande Ronde, Oregon, on April 19, 2001. The meeting will begin at 9 a.m. and end at 3:30 p.m. The agenda will include: Survey & Manage update, Late Successional Reserve 267 Restoration Project report OR Dept. of Forestry Plan briefing, County Payments update, Monitoring update, ULEP briefing, public comments, and round-robin information sharing. Lunch will be on your own. There are several restaurants at Spirit Mountain. A fifteen-minute open public forum is scheduled at 2 p.m. Interested citizens are encouraged to attend. The committee welcomes the publics' written comments on committee business at any time.

FOR FURTHER INFORMATION CONTACT: Joni Quarnstrom, Public Affairs Specialist, Siuslaw National Forest, 541/750-7075 or write to Forest Supervisor, Siuslaw National Forest, P.O. Box 1148, Corvallis, OR 97339.

Dated: March 26, 2001.
Gloria D. Brown,
Forest Supervisor.

[FR Doc. 01-8309 Filed 4-4-01; 8:45 am]

BILLING CODE 3410-11-M